DEPARTMENT OF DEFENSE

Office of the Secretary

Meeting of the Historical Advisory Committee

AGENCY: Department of Defense.

ACTION: Notice of open meeting.

SUMMARY: In accordance with the provisions of the Federal Advisory Committee Act, this notice announces a meeting of the Department of Defense Historical Advisory Committee. The meeting will be open to the public.

DATES: Tuesday, March 13th at 10 a.m.

ADDRESSES: The meeting will be held on the 5th Floor, Suite 5000, 1777 North Kent Street, Arlington, Virginia 22209.

FOR FURTHER INFORMATION CONTACT: Mrs. Pamela Bennett at 703-588-7889 or Ms. Carolyn Thorne at 703-588-7890 for information, and or upon arrival at the building in order to be admitted.

Dated: February 12, 2007.
L.M. Bynum,
Alternate OSD Federal Register Liaison Officer, Department of Defense.

[FR Doc. 07-893 Filed 2-27-07; 8:45 am]

BILLING CODE 5000-06-M